NUCLEAR REGULATORY COMMISSION

[NRC-2022-0036]

Water Sources for Long-Term Recirculation Cooling Following a Loss-of-Coolant Accident

AGENCY: Nuclear Regulatory Commission.

ACTION: Draft regulatory guide; extension of comment period.

SUMMARY: On February 8, 2022, the U.S. Nuclear Regulatory Commission (NRC) solicited comments on draft regulatory guide (DG), DG-1385, “Water Sources for Long-Term Cooling Following a Loss-of-Coolant Accident.” The public comment period was originally scheduled to close on March 10, 2022. The NRC has decided to extend the public comment period to allow more time for members of the public to develop and submit their comments.

DATES: The due date for comments requested in the document published on February 8, 2022 (87 FR 7209) has been extended. Comments should be filed no later than April 8, 2022. Comments received after this date will be considered, if it is practical to do so, but the Commission is able to ensure consideration only for comments received on or before this date.

ADDRESSES: You may submit comments by any of the following methods; however, the NRC encourages electronic comment submission through the Federal rulemaking website:

• Federal rulemaking Website: Go to https://www.regulations.gov and search for Docket ID NRC-2022-0036. Address questions about Docket IDs in Regulations.gov to Stacy Schumann; telephone: 301-415-0624; email: Stacy.Schumann@nrc.gov. For technical questions, contact the individuals listed in the For Further Information Contact section of this document.

• Mail comments to: Office of Administration, Mail Stop: TWFN-7-A60M, U.S. Nuclear Regulatory Commission, Washington, DC 20555-0001, ATTN: Program Management, Announcements and Editing Staff.

For additional direction on accessing information and submitting comments, see “Obtaining Information and Submitting Comments” in the SUPPLEMENTARY INFORMATION section of this document.

FOR FURTHER INFORMATION CONTACT: Ahsan Sallman, Office of Nuclear Reactor Regulation, telephone: 301-415-2380, email: Ahsan.Salman@nrc.gov, and James Steckel, Office of Nuclear Regulatory Research, telephone: 301-415-1026, email: James.Steckel@nrc.gov. Both are staff of the U.S. Nuclear Regulatory Commission, Washington, DC 20555-0001.

SUPPLEMENTARY INFORMATION:

I. Obtaining Information and Submitting Comments

A. Obtaining Information

Please refer to Docket ID NRC-2021-0036 when contacting the NRC about the availability of information regarding this action. You may obtain publicly available information related to this action, by any of the following methods:

• Federal Rulemaking Website: Go to https://www.regulations.gov and search for Docket ID NRC-2021-0036.

• NRC's Agencywide Documents Access and Management System (ADAMS): You may obtain publicly available documents online in the ADAMS Public Documents collection at https://www.nrc.gov/reading-rm/adams.html. To begin the search, select “Begin Web-based ADAMS Search.” For questions regarding use of ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays

B. Submitting Comments

The NRC encourages electronic comment submission through the Federal rulemaking website (https://www.regulations.gov). Please include Docket ID NRC-2021-0036 in your comment submission.

The NRC cautions you not to include identifying or contact information that you do not want to be publicly disclosed in your comment submission. The NRC posts all comment submissions at https://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On February 8, 2022, the NRC published a document in the Federal Register (87 FR 7209) soliciting comments on DG-1385, “Water Sources for Long-Term Cooling Following a Loss-of-Coolant Accident.” This DG is proposed Revision 5 to Regulatory Guide 1.82, which describes an approach that may be used to determine quality standards acceptable to the NRC staff, to meet the regulatory requirements for sumps and suppression pools that provide water sources for emergency core cooling, containment heat removal, or containment atmosphere cleanup systems. It also provides guidelines for evaluating the adequacy and the availability of the sump or suppression pool for long-term recirculation cooling following a loss-of-coolant-accident, and the use of containment accident pressure in determining the net positive suction head for the emergency core cooling and containment heat removal pumps. This proposed revision guidance applies to both the pressurized-water reactor and boiling-water reactor types of light-water reactors. The comment period was originally scheduled to close on March 10, 2022. Upon the request of the Nuclear Energy Institute, the NRC has decided to extend the public comment period on this document until April 8, 2022, to allow more time for members of the public to submit their comments.

Dated: March 2, 2022.
For the Nuclear Regulatory Commission.
Meraj Rahimi,
Chief, Regulatory Guide and Programs Management Branch, Division of Engineering, Office of Nuclear Regulatory Research.

[FR Doc. 2022-04838 Filed 3-7-22; 8:45 am]

BILLING CODE 7590-01-P